DEPARTMENT OF TRANSPORTATION

Federal Aviation Administration

[Summary Notice No. PE-2003-02]

Petitions for Exemption; Summary of Petitions Received

AGENCY: Federal Aviation Administration (FAA), DOT.

ACTION: Notice of petition for exemption received.

SUMMARY: Pursuant to FAA's rulemaking provisions governing the application, processing, and disposition of petitions for exemption, part 11 of Title 14, Code of Federal Regulations (14 CFR), this notice contains a summary of a certain petition seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 11, 2003.

ADDRESSES: Send comments on the petition to the Docket Management System, U.S. Department of Transportation, Room Plaza 401, 400 Seventh Street, SW., Washington, DC 20590-0001. You must identify docket number FAA-2002-13885-1 at the beginning of your comments. If you wish to receive confirmation that the FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Carol Greb (816-329-4136), Small Airplane Directorate (ACE-111), Federal Aviation Administration, 901 Locust, Kansas City, MO 64106; or Vanessa Wilkins (202-267-8029), Office of Rulemaking (ARM-1), Federal Aviation Administration, 800 Independence Avenue, SW., Washington, DC 20591. This notice is published pursuant to 14 CFR 11.85 and 11.91.

Issued in Washington, DC, on January 15, 2003.
Donald P. Byrne,
Assistant Chief Counsel for Regulations.

Petitions for Exemption

Docket No.: FAA-2002-13885-1.

Petitioner: Raytheon Aircraft Services.

Section of 14 CFR Affected: 14 CFR part 23, 23.807(d)(1)(ii).

Description of Relief Sought: Raytheon Aircraft Services (RAS) seeks exemption from 14 CFR 23.807(d)(1)(ii) for the Model 1900D. This rule requires commuter category aircraft, with a passenger seating capacity of 16 or greater, to be equipped with an accessible emergency exit on the same side of the aircraft as the entry door and two exits on the opposite side of the aircraft. RAS seeks a Supplemental Type Certificate for the 1900D to install a cargo configuration floor plan. The floor plan design would allow access to the forward entry door, but block access to the emergency exit on that side of the airplane. An emergency exit on the opposite side of the airplane would remain accessible.

The cargo configuration floor plan allows seating for three occupants: the pilot, co-pilot, and an observer. The baseline Model 1900D is certificated to a total passenger seating capacity of 19, and is equipped with a main cabin door and three emergency exits, per 14 CFR 23.807(d)(1)(ii). A simple comparison shows that egress for three persons through two exits, one on each side of the cabin, gives a level of safety equal to the original certification basis.

[FR Doc. 03-1318 Filed 1-21-03; 8:45 am]

BILLING CODE 4910-13-M